SMALL BUSINESS ADMINISTRATION

13 CFR Part 106

RIN 3245-AF37

Cosponsorships, Fee and Non-Fee Based SBA-Sponsored Activities, and Gifts

AGENCY: U.S. Small Business Administration.

ACTION: Final Rule; correction.

SUMMARY: The U.S. Small Business Administration (SBA) is correcting a final rule regarding cosponsorships, fee and non-fee based SBA-sponsored activities, and gifts that was published in the Federal Register on November 23, 2005. The final rule implemented SBA's statutory authority to provide assistance for the benefit of small businesses through activities sponsored with outside entities (for-profit and non-profit entities and Federal, State, and local government officials or entities) as well as activities sponsored solely by SBA. The final rule also established minimum requirements for those activities as well as the Agency's solicitation and acceptance of gifts. The rule was effective on November 23, 2005, the date of publication, but did not contain a justification for the immediate effective date as required by the Administrative Procedures Act. SBA is correcting the final rule by adding a paragraph which sets forth an appropriate justification for immediate effective date of final rule.

DATES: Effective December 22, 2005.

FOR FURTHER INFORMATION CONTACT: Robert L. Gangwere, Deputy General Counsel, (202) 205-6642.

SUPPLEMENTARY INFORMATION: On November 23, 2005, SBA published a final rule regarding cosponsorships, fee and non-fee based SBA-sponsored activities, and gifts (70 FR 70703). The rule was effective on November 23, 2005, the date of publication, but did not contain a justification for the immediate effective date as required by the Administrative Procedures Act, § 553(d)(3). SBA is correcting the final rule by adding a paragraph which sets forth an appropriate justification for immediate effective date of final rule.

On page 70704, in the second column, add the following paragraph as subsection D of the SUPPLEMENTARY INFORMATION section:

D. Justification for Immediate Effective Date of Final Rule

The APA requires that “publication or service of a substantive rule shall be made not less than 30 days before its effective date, except * * * as otherwise provided by the agency for good cause found and published with the rule.” 5 U.S.C. 553(d)(3). SBA finds that good cause exists to make this final rule effective on the same day it is published in the Federal Register.

The purpose of the APA provision delaying the effective date of a rule for 30 days after publication is to provide interested and affected members of the public sufficient time to adjust their behavior before the rule takes effect. In this case, however, the 30-day delay is unnecessary because this final rule addresses administrative requirements for Agency management of SBA outreach programs and does not require small business concerns, cosponsors or SBA's other strategic partners to change their behavior when participating with SBA in cosponsorships and other outreach activities. Further, immediate implementation of the final rule is justifiable because SBA's statutory authority for cosponsorship and fee-based SBA-sponsored events will terminate on September 30, 2006. Immediate implementation will give SBA the maximum amount of time to measure the effectiveness of the statutory authorities in furthering the SBA's mission. Furthermore, SBA did not receive any comments on the proposed rule, which was published in the Federal Register on July 1, 2005, and does not expect any opposition to an immediate effective date of this final rule from small businesses or other entities participating in its outreach programs.

Adela M. Soriano,
Associate Administrator for Strategic Alliances.

[FR Doc. 05-24374 Filed 12-21-05; 8:45 am]

BILLING CODE 8025-01-P